DEPARTMENT OF HOMELAND SECURITY

Coast Guard

33 CFR Part 117

[USCG-2008-0927]

Drawbridge Operation Regulation; Piscataqua River, Portsmouth, NH, and Kittery, ME, Maintenance

AGENCY: Coast Guard, DHS.

ACTION: Notice of temporary deviation from regulations.

SUMMARY: The Commander, First Coast Guard District, has issued a temporary deviation from the regulation governing the operation of the Sara M. Long (Route 1 Bypass) Bridge across the Piscataqua River at mile 4.0, between Portsmouth, New Hampshire, and Kittery, Maine. Under this temporary deviation, the bridge may remain in the closed position. This deviation is necessary to facilitate scheduled bridge maintenance.

DATES: This deviation is effective from 7 a.m. on November 10, 2008 through 5 p.m. on November 14, 2008.

ADDRESSES: Documents indicated in this preamble as being available in the docket are part of docket USCG-2008-0927 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: If you have questions on the rule, call John McDonald, Project Officer, First Coast Guard District, at 617-223-8364. If you have questions on viewing the docket, call Renee V. Wright, Program Manager, Docket Operations, 202-366-9826.

SUPPLEMENTARY INFORMATION: The Sara M. Long (Route 1 Bypass) Bridge, across the Piscataqua River at mile 4.0, between Portsmouth, New Hampshire, and Kittery, Maine, has a vertical clearance in the closed position of 10 feet at mean high water and 18 feet at mean low water. The existing drawbridge operation regulations are listed at 33 CFR 117.531(c).

The owner of the bridge, New Hampshire Department of Transportation, requested a temporary deviation to facilitate scheduled bridge maintenance and electrical operating equipment upgrade maintenance.

Both recreational and commercial vessel traffic transit this bridge. Waterway users were advised of the requested bridge closure period and offered no objection.

Under this temporary deviation, in effect from 7 a.m. on November 10, 2008 through 5 p.m. on November 14, 2008, the Sara M. Long (Route 1 Bypass) Bridge may remain in the closed position. Vessels able to pass under the closed draw may do so at any time.

In accordance with 33 CFR 117.35(e), the bridge must return to its regular operating schedule immediately at the end of the designated time period. This deviation from the operating regulations is authorized under 33 CFR 117.35.

Dated: October 1, 2008.
Gary Kassof,
Bridge Program Manager, First Coast Guard District.

[FR Doc. E8-24521 Filed 10-14-08; 8:45 am]

BILLING CODE 4910-15-P